DEPARTMENT OF EDUCATION

[Docket No. ED-2017-ICCD-0120]

Agency Information Collection Activities; Submission to the Office of Management and Budget for Review and Approval; Comment Request; Study of Higher Education Articulation Agreements Covering the Early Care and Education Workforce

AGENCY: Office of Planning, Evaluation and Policy Development (OPEPD), Department of Education (ED).

ACTION: Notice.

SUMMARY: In accordance with the Paperwork Reduction Act of 1995, ED is proposing a new information collection.

DATES: Interested persons are invited to submit comments on or before January 2, 2018.

ADDRESSES: To access and review all the documents related to the information collection listed in this notice, please use http://www.regulations.gov by searching the Docket ID number ED-2017-ICCD-0120. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 216-32, Washington, DC 20202-4537.

FOR FURTHER INFORMATION CONTACT: For specific questions related to collection activities, please contact Erica Lee, 202-260-1463.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Study of Higher Education Articulation Agreements Covering the Early Care and Education Workforce.

OMB Control Number: 1875-NEW.

Type of Review: A new information collection.

Respondents/Affected Public: Individuals or Households.

Total Estimated Number of Annual Responses: 47.

Total Estimated Number of Annual Burden Hours: 104.

Abstract: The purpose of this study is to identify elements that states have in place to enable successful articulation as early care and education (ECE) workers progress from an associate's degree to a bachelor's degree and describe states' successes and challenges in implementing the elements. Specifically, the study will use telephone interviews, focus groups, and review of extant documents to examine ECE articulation policies and their implementation in six focal states that have statewide articulation policies addressing degrees or coursework in early childhood education.

This analysis will rely on three types of data sources:

• Telephone interviews. One-on-one phone interviews will be conducted with 76 individuals including: Faculty and college administrators from states' two-year and four-year institutions of higher education; state higher education administrators; representatives from higher education governing bodies and ECE licensure bodies; and other individuals who are knowledgeable about development, implementation, and monitoring of ECE articulation policies and the ECE workforce.

• Focus groups. Virtual focus groups will be held in each of the six states, including student focus groups (with 24 students total) and focus groups of institutional support staff (with 20 staff total).

• Review of extant documents. These documents will include articulation policies, legislation, and governing body meeting notes.

Dated: November 27, 2017.
Stephanie Valentine,
Acting Director, Information Collection Clearance Division, Office of the Chief Privacy Officer, Office of Management.

[FR Doc. 2017-25796 Filed 11-29-17; 8:45 am]

BILLING CODE 4000-01-P